FEDERAL COMMUNICATIONS COMMISSION

Sunshine Act Meeting; Open Commission Meeting, Thursday, August 8, 2002

August 1, 2002.

The Federal Communications Commission will hold an Open Meeting on the subjects listed below on Thursday, August 8, 2002, which is scheduled to commence at 9:30 a.m. in Room TW-C305, at 445 12th Street, SW., Washington, DC.

Item No. | Bureau | Subject
1 | Media | Title: Digital Broadcast Copy Protection.
|  | Summary: The Commission will consider a Notice of Proposed Rulemaking concerning digital broadcast copy protection.
2 | Office of Engineering and Technology and Media | Title: Review of the Commission's Rules and Policies Affecting the Conversion to Digital Television (MM Docket No. 00-39).
|  | Summary: The Commission will consider a Second Report and Order and Second Memorandum Opinion and Order regarding its policies and rules for conversion of the broadcast television service to digital technology.
3 | Wireless Telecommunications | Title: Year 2000 Biennial Regulatory Review—Amendment of Part 22 of the Commission's Rules to Modify or Eliminate Outdated Rules Affecting the Cellular Radiotelephone Service and other Commercial Mobile Radio Services (WT Docket No. 01-108).
|  | Summary: The Commission will consider a Report and Order concerning various Part 22 rules that have become outdated due to technological change, increased competition in the Commercial Mobile Radio Service (CMRS), or supervening rules.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. Audio/Video coverage of the meeting will be broadcast live over the Internet from the FCC's Audio/Video Events web page at http://www.fcc.gov/realaudio. Audio and video tapes of this meeting can be purchased from CACI Productions, 341 Victory Drive, Herndon, VA 20170, telephone number (703) 834-1470, Ext. 19; fax number (703) 834-0111.

Federal Communications Commission.
Marlene H. Dortch,
Secretary.

[FR Doc. 02-20114 Filed 8-5-02; 2:06 pm]

BILLING CODE 6712-01-P